DEPARTMENT OF TRANSPORTATION

Federal Aviation Administration

14 CFR Part 71

[Docket No. FAA-2005-22491; Airspace Docket No. 05-AEA-019]

Amendment of Class E Airspace; Williamsport, PA

AGENCY: Federal Aviation Administration (FAA), DOT.

ACTION: Final rule; correction.

SUMMARY: This action corrects an error in the geographic coordinates of a final rule published in the Federal Register October 30, 2007, that established additional controlled airspace at Williamsport-Lycoming County Airport (72 FR 61297), Airspace Docket No. FAA-2005-22491.

DATES: Effective 0901 UTC, February 21, 2008.

FOR FURTHER INFORMATION CONTACT: Daryl Daniels, Airspace Specialist, System Support, AJ02-E2B.12, FAA Eastern Service Center, 1701 Columbia Ave., College Park, GA 30337; telephone (404) 305-5581; fax (404) 305-5572.

SUPPLEMENTARY INFORMATION:

History

A final rule published in the Federal Register October 30, 2007, established additional controlled airspace at Williamsport-Lycoming County Airport (72 FR 61297). In that rule, additional airspace was established to serve the Williamsport Hospital. After publication, an error was found in the geographic coordinates of the Williamsport-Lycoming County Airport, Williamsport, PA. This action corrects that error.

Correction to Final Rule

Accordingly, pursuant to the authority delegated to me, the geographic coordinates for the Williamsport-Lycoming County Airport, PA, as published in the Federal Register on October 30, 2007 (72 FR 61297), Federal Register Docket No. FAA-2005-22491 are corrected as follows:

§ 71.1 [Amended]

* * * * *

AEA PA E5 Williamsport, PA [Corrected]

Williamsport-Lycoming County Airport

(Lat. 41°14′31″ N., long. 76°55′16″ W.)

Picture Rocks NDB

(Lat. 41°16′36″ N., long. 76°42′37″ W.)

Williamsport Hospital Point In Space Coordinates

(Lat. 41°14′43″ N., long. 77°00′04″ W.)

That airspace extending upward from 700 feet above the surface within a 17.9-mile radius of Williamsport-Lycoming County Airport extending clockwise from a 025° bearing to a 067° bearing from the airport and within a 12.6-mile radius of Williamsport-Lycoming County Airport extending clockwise from a 067° bearing to a 099° bearing from the airport and within a 6.7-mile radius of Williamsport-Lycoming County Airport extending clockwise from a 099° bearing to a 270° bearing from the airport and within a 17.9-mile radius of Williamsport-Lycoming County Airport extending clockwise from a 270° bearing to a 312° bearing from the airport and within a 19.6-mile radius of Williamsport-Lycoming County Airport extending clockwise from a 312° bearing to a 350° bearing from the airport and within a 6.7-mile radius of Williamsport-Lycoming County Airport extending clockwise from a 350° bearing to a 025° bearing from the airport and within 4.4 miles each side of the Williamsport-Lycoming County Airport ILS localizer east course extending from the Picture Rocks NDB to 11.3 miles east of the NDB; and that airspace within a 6-mile radius of the point in space (Lat. 41°14′43″ N., long. 77°00′04″ W.) serving the Williamsport Hospital.

* * * * *

Issued in College Park, GA, on February 7, 2008.
Barry A. Knight,
Acting Manager, System Support Group, Eastern Service Center.

[FR Doc. 08-728 Filed 2-20-08; 8:45 am]

BILLING CODE 4910-13-M